FEDERAL COMMUNICATIONS COMMISSION

47 CFR Part 73

[DA 00-2597, MM Docket No. 00-235, RM-9992]

Digital Television Broadcast Service; Lead, SD

AGENCY: Federal Communications Commission.

ACTION: Proposed rule.

SUMMARY: The Commission requests comments on a petition filed by Duhamel Broadcasting Enterprises, licensee of station KHSD-TV, NTSC Channel 11, Lead, South Dakota, requesting the substitution DTV channel 10 for station KHSD-TV's assigned DTV channel 30. DTV Channel 10 can be allotted to Lead, South Dakota, in compliance with the principle community coverage requirements of Section 73.625(a) at reference coordinates (44-19-36 N. and 103-50-12 W.). As requested, we propose to allot DTV Channel 10 to Lead with a power of 34.8 and a height above average terrain (HAAT) of 576 meters.

DATES: Comments must be filed on or before January 16, 2001, and reply comments on or before January 31, 2001.

ADDRESSES: Federal Communications Commission, 445 12th Street, S.W., Room TW-A325, Washington, DC 20554. In addition to filing comments with the FCC, interested parties should serve the petitioner, or its counsel or consultant, as follows: Colette M. Capretz, Shaw Pittman, 2300 N Street, NW, Washington, DC 20037-1128 (Counsel for Duhamel Broadcasting Enterprises).

FOR FURTHER INFORMATION CONTACT: Pam Blumenthal, Mass Media Bureau, (202) 418-1600.

SUPPLEMENTARY INFORMATION: This is a synopsis of the Commission's Notice of Proposed Rule Making, MM Docket No. 00-235, adopted November 22, 2000, and released November 24, 2000. The full text of this Commission decision is available for inspection and copying during normal business hours in the FCC Reference Center 445 12th Street, S.W., Washington, DC. The complete text of this decision may also be purchased from the Commission's copy contractor, International Transcription Services, Inc., (202) 857-3800, 1231 20th Street, NW, Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Television, Digital television broadcasting.

For the reasons discussed in the preamble, the Federal Communications Commission proposes to amend 47 CFR part 73 as follows:

PART 73—TELEVISION BROADCAST SERVICES

1. The authority citation for part 73 continues to read as follows:

Authority: 47 U.S.C. 154, 303, 334, and 336.

§ 73.622 [Amended]

2. Section 73.622(b), the Table of Digital Television Allotments under South Dakota is amended by removing DTV Channel 30 and adding DTV Channel 10 at Lead.

Federal Communications Commission.
Barbara A. Kreisman,
Chief, Video Services Division, Mass Media Bureau.

[FR Doc. 00-30363 Filed 11-28-00; 8:45 am]

BILLING CODE 6712-01-U